DEPARTMENT OF COMMERCE

National Oceanic and Atmospheric Administration

[RTID 0648-XB537]

West Coast Groundfish Trawl Seabird Cable Strike Meeting; Meeting Announcement

AGENCY: National Marine Fisheries Service (NMFS), National Oceanic and Atmospheric Administration (NOAA), Commerce.

ACTION: Notice of public meeting.

SUMMARY: NMFS announces a meeting to present the results of research studies conducted on seabird cable strikes in the West Coast at-sea whiting fishery. The meeting topics are described under the SUPPLEMENTARY INFORMATION section of this notice.

DATES: The virtual meeting will be held on December 10, 2021, from 9 a.m. to 2 p.m., Pacific Standard Time (or until business is concluded).

ADDRESSES: Instructions for attending the meeting will be provided on the web at https://www.fisheries.noaa.gov/species/west-coast-groundfish and through a public notice to be emailed out to the West Coast Groundfish Listserv. Sign up to receive West Coast Groundfish public notices at https://public.govdelivery.com/accounts/USNOAAFISHERIES/subscriber/new. After entering your contact information, check the boxes for the “Groundfish” and/or “Pacific Whiting” topics under “West Coast Updates”.

FOR FURTHER INFORMATION CONTACT: Keeley Kent, West Coast Region, at keeley.kent@noaa.gov or 206-247-8252.

SUPPLEMENTARY INFORMATION: Seabirds congregate around trawlers to feed on offal putting them at risk of colliding with cables (trawl warps and data cables) that run aft of trawlers. Cable strikes are a known source of seabird mortality worldwide, particularly on at-sea factory trawlers (referred to as catcher/processors). Research projects observing seabird cable strikes and other interactions, as well as testing of mitigation measures, have been conducted in the West Coast at-sea Pacific whiting fishery. NMFS will present results from these studies to inform a discussion of their application to management.

Trawl Seabird Bycatch Meeting Topics

This meeting will have an agenda that will be distributed to participants in advance of the meeting. The meeting agenda will include, but is not limited to, the following topics:

(1) Presentation of research studies conducted on seabird interactions in at-sea Pacific whiting fisheries, including cable strikes;

(2) Discussion of seabird bycatch mitigation measure trials; and

(3) Application of research results to management.

Special Accommodations

Requests for sign language interpretation or other auxiliary aids should be directed to Keeley Kent (see ADDRESSES) by November 5, 2021.

Authority: 16 U.S.C. 951 et seq., 16 U.S.C. 1801 et seq., and 16 U.S.C. 6901 et seq.

Dated: October 25, 2021.
Jennifer M. Wallace,
Acting Director, Office of Sustainable Fisheries, National Marine Fisheries Service.

[FR Doc. 2021-23609 Filed 10-28-21; 8:45 am]

BILLING CODE 3510-22-P